Title 3—

The President

Proclamation 10604 of July 26, 2023

National Korean War Veterans Armistice Day, 2023

By the President of the United States of America

A Proclamation

This year marks the 70th anniversary of the Alliance between the United States and the Republic of Korea—an unbreakable bond forged by American and Korean service members who fought side-by-side from 1950 to 1953. These patriots braved dangers and deprivations, facing down war and death in defense of democracy. Today, we remember their service. Together, we honor their sacrifice—including more than 36,000 Americans and more than 7,000 Korean Augmentation to the United States Army soldiers who laid down their lives for a world of greater liberty and freedom.

During President Yoon's recent trip to the United States, we visited the Korean War Veterans Memorial—laying wreaths in honor of the brave Korean and American women and men who served and sacrificed. It was a solemn reminder that our Alliance was not born out of shared borders but shared beliefs—including democracy, security, and freedom. Today, those beliefs are upheld by the thousands of Korean and American troops who continue to stand together on the Korean Peninsula. And they remain the source of our shared strength—keeping the Alliance between the Republic of Korea and the United States the linchpin of peace, stability, and prosperity in the Indo-Pacific region and, increasingly, around the world.

Today, we also pause to remember the thousands of United States troops who went missing in action during the Korean War. That includes Army Corporal Luther H. Story, who was awarded the Medal of Honor for his extraordinary heroism during a battle on the Pusan Perimeter in 1950. Our Nation was able to bring Corporal Story home this year when his remains were finally identified and returned to his family. And we will never stop working to bring home every one of our missing heroes.

Today—70 years after the armistice was signed by representatives of the United States as head of the United Nations Command, the People's Republic of China, and North Korea—let us honor the Korean War Veterans who fought to defend the security and stability we enjoy today. Let us renew our commitment to the democratic values for which they served and sacrificed. And together, let us continue to ensure that our Alliance with the Republic of Korea continues to contribute to global peace and prosperity.

NOW, THEREFORE, I, JOSEPH R. BIDEN JR., President of the United States of America, by virtue of the authority vested in me by the Constitution and the laws of the United States, do hereby proclaim July 27, 2023, as National Korean War Veterans Armistice Day. On this day, I encourage all Americans to reflect on the strength, sacrifices, and sense of duty of our Korean War Veterans and bestow upon them the high honor they deserve. I call upon all Americans to observe this day with appropriate ceremonies and activities that honor and give thanks to our distinguished Korean War Veterans.

IN WITNESS WHEREOF, I have hereunto set my hand this twenty-sixth day of July, in the year of our Lord two thousand twenty-three, and of the Independence of the United States of America the two hundred and forty-eighth.

[FR Doc. 2023-16400

Filed 7-28-23; 11:15 am]

Billing code 3395-F3-P